DEPARTMENT OF HOMELAND SECURITY

Coast Guard

33 CFR Part 117

[Docket No. USCG-2017-0229]

Drawbridge Operation Regulation; Mill River, New Haven, CT

AGENCY: Coast Guard, DHS.

ACTION: Notice of deviation from drawbridge regulation.

SUMMARY: The Coast Guard has issued a temporary deviation from the operating schedule that governs the Chapel Street Bridge across the Mill River, mile 0.4 at New Haven, Connecticut. This deviation is necessary to complete mortar and fender repairs as well as structural steel work. This deviation allows the bridge to open for the passage of vessels upon 2 hours of advance notice.

DATES: This deviation is effective without actual notice from April 17, 2017 through 11:59 p.m. on May 5, 2017. For the purposes of enforcement, actual notice will be used from 12:01 a.m. on April 3, 2017, until April 17, 2017.

ADDRESSES: The docket for this deviation, USCG-2017-0229 is available at http://www.regulations.gov. Type the docket number in the “SEARCH” box and click “SEARCH”. Click on Open Docket Folder on the line associated with this deviation.

FOR FURTHER INFORMATION CONTACT: If you have questions on this temporary deviation, call or email James M. Moore, Bridge Management Specialist, First District Bridge Branch, U.S. Coast Guard; telephone 212-514-4334, email james.m.moore2@uscg.mil.

SUPPLEMENTARY INFORMATION: The City of New Haven, the owner of the bridge, requested a temporary deviation from the normal operating schedule to facilitate rehabilitation of the bridge. The Chapel Street Bridge, across the Mill River, mile 0.4 at New Haven, Connecticut offers mariners a vertical clearance of 7.88 feet at mean high water and 13.99 feet at mean low water in the closed position. The existing drawbridge operating regulations are listed at 33 CFR 117.213(d). The bridge routinely opens for commercial vessels, but mariners have indicated the requirement for 2 hours of advance notice will not impede routine waterway operations.

Under this temporary deviation, the Chapel Street Bridge will open for the passage of vessels requiring an opening provided 2 hours of advance notice is furnished to the owner of the bridge; except that, from 7:30 a.m. to 8:30 a.m. and 4:45 p.m. to 5:45 p.m., Monday through Friday, except Federal holidays, the draw need not open for the passage of vessel traffic.

Vessels that can pass under the bridge without an opening may do so at all times. The bridge will be able to open for emergencies. There is no alternate route for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: April 12, 2017.
C.J. Bisignano,
Supervisory Bridge Management Specialist, First Coast Guard District.

[FR Doc. 2017-07668 Filed 4-14-17; 8:45 am]

BILLING CODE 9110-04-P